NATIONAL AERONAUTICS AND SPACE ADMINISTRATION

[Notice (21-054)]

Performance Review Board, Senior Executive Service (SES)

AGENCY: National Aeronautics and Space Administration (NASA).

ACTION: Notice of Membership of SES Performance Review Board.

SUMMARY: The Civil Service Reform Act of 1978, Public Law 95-454 (Section 405) requires that appointments of individual members to the Performance Review Board (PRB) be published in the Federal Register. The performance review function for the SES in NASA is being performed by the NASA PRB. The following individuals are serving on the Board:

Performance Review Board

Chairperson, Associate Administrator, NASA Headquarters

Deputy Associate Administrator, NASA Headquarters

Chief Human Capital Officer, NASA Headquarters

Associate Administrator for the Office of Diversity and Equal Opportunity, NASA Headquarters

Associate Administrator for Human Exploration and Operations, NASA Headquarters

Chief Information Officer, NASA Headquarters

Center Director, NASA Glenn Research Center

Cheryl Parker,
Federal Register Liaison Officer.

[FR Doc. 2021-17017 Filed 8-9-21; 8:45 am]

BILLING CODE 7510-13-P